FEDERAL COMMUNICATIONS COMMISSION

[OMB 3060-0422]

Information Collection Approved by the Office of Management and Budget

AGENCY: Federal Communications Commission.

ACTION: Notice.

SUMMARY: The Federal Communications Commission (FCC) has received Office of Management and Budget (OMB) approval for the following public information collections pursuant to the Paperwork Reduction Act. An agency may not conduct or sponsor a collection of information unless it displays a currently valid OMB control number, and no person is required to respond to a collection of information unless it displays a currently valid control number. Comments concerning the accuracy of the burden estimates and any suggestions for reducing the burden should be directed to the person listed below.

FOR FURTHER INFORMATION CONTACT: Eliot Greenwald, Disability Rights Office, Consumer and Governmental Affairs Bureau, at (202) 418-2235, or email: Eliot.Greenwald.@fcc.gov.

SUPPLEMENTARY INFORMATION: OMB Control No.: 3060-0422.

OMB Approval Date: 04/15/2019.

Expiration Date: 04/30/2019.

Title: Section 68.5, Waivers (Application for Waivers of Hearing Aid Compatibility Requirements).

Form No.: N/A.

Respondents: Business or other for-profit entities.

Number of Respondents: 2 respondents; 2 responses.

Estimated Time per Response: 3 hours.

Frequency of Response: On occasion reporting requirement.

Obligation to Respond: Required to obtain or retain benefits. The statutory authority for this information collection is contained in 47 U.S.C. 610.

Total Annual Burden: 6 hours.

Total Annual Cost: None.

Nature and Extent of Confidentiality: An assurance of confidentiality is not offered because this information collection does not require the collection of personally identifiable information from individuals.

Privacy Impact Assessment: No impact(s).

Needs and Uses: Telephone manufacturers seeking a waiver of 47 CFR 68.4(a)(1), which requires that certain telephones be hearing aid compatible, must demonstrate that compliance with the rule is technologically infeasible or too costly. Information is used by FCC staff to determine whether to grant or dismiss the request. Prior to (and after) the adoption of FCC 17-135, manufacturers could request waivers for wireline telephones connected to the public switched telephone network. Pursuant to FCC 17-135, waivers may also be requested for wireline advanced communications services telephonic customer premises equipment (ACS telephonic CPE), which includes wireline telephones used for Voice over internet Protocol.

Federal Communications Commission.
Katura Jackson,
Federal Register Liaison Officer, Office of the Secretary.

[FR Doc. 2019-08429 Filed 4-25-19; 8:45 am]

BILLING CODE 6712-01-P